DEPARTMENT OF HOMELAND SECURITY

Transportation Security Administration

49 CFR Parts 1500, 1552, and 1570

Restoration of Statutory Terms in TSA Regulations: Use of Alien; Technical Amendments

AGENCY: Transportation Security Administration, DHS.

ACTION: Final rule; technical amendments.

SUMMARY: This document makes nomenclature changes to sections of the Code of Federal Regulations (CFR) administered by the Transportation Security Administration (TSA). This action is necessary to conform TSA regulations with statutory terminology used in the Immigration and Nationality Act.

DATES: This rule is effective as of February 17, 2026.

FOR FURTHER INFORMATION CONTACT: Sabria Moseley, Enrollment Services and Vetting Programs, TSA; telephone (800) 253-8571, option 7; email to FTSP.Policy@tsa.dhs.gov.

SUPPLEMENTARY INFORMATION: You can find an electronic copy of this rule using the internet by accessing the Government Publishing Office's web page at https://www.govinfo.gov/app/collection/FR to view the daily published Federal Register edition or by accessing the Office of the Federal Register's web page at https://www.federalregister.gov. Copies are also available by contacting the individual identified in the FOR FURTHER INFORMATION CONTACT section.

Discussion of the Rule

This final rule makes technical amendments to certain sections of the CFR to align TSA's regulatory language with statutory terms and definitions in the Immigration and Nationality Act, such as “alien” rather than “non-citizen”. In general, the technical amendments are limited to replacing the term “non-U.S. citizen” with the term “alien” wherever the term appears in TSA regulations. In one instance, TSA is removing a definition that includes the word “non-U.S. citizen” because the definition is no longer needed in the regulation. The following table identifies the context for each change in 49 CFR chapter XII.

The Administrative Procedure Act (APA) (5 U.S.C. 553(B)(3)(b)) provides that when an agency, for good cause, finds that the notice and public procedures are impracticable, unnecessary, or contrary to the public interest, the agency may issue a rule without providing notice and an opportunity for public comment. TSA has determined that there is good cause for making this technical amendment final without prior proposal and opportunity for comment because the revisions are not substantive and will not affect the regulatory requirements in the affected parts. TSA has determined that public comment on such administrative changes is unnecessary and that there is good cause under the APA for proceeding with a final rule.

TSA has also determined that this rule is exempt from the notice and comment requirement under the APA because it is a rule of agency organization, procedure, or practice. See 5 U.S.C. 553(b)(A). Because the rule is simply an administrative change that replaces terminology without altering the rights or interests of parties, it has no substantive effect on the regulatory requirements and places no stamp of approval or disapproval on any type of behavior. Accordingly, TSA is issuing this rule in its final form as a procedural rule.

Further, because a notice of proposed rulemaking and opportunity for public comment are not required for this rule under the APA or any other law, the analytical requirements of the Regulatory Flexibility Act (5 U.S.C. 601 et seq.) are not applicable. Accordingly, this rule is issued in final form.

Before a rule can take effect, the Congressional Review Act (CRA), as codified at 5 U.S.C. 801, requires Federal agencies to submit the rule and a report to Congress and the Comptroller General indicating whether it is a major rule. Under 5 U.S.C. 804(3)(C), rules of agency organization, procedure, or practice that do not substantially affect the rights or obligations of non-agency parties are not considered to be a rule for the purposes of the CRA. This technical amendment is a rule of agency organization, procedure, or practice that will not substantially affect the rights or obligations of non-agency parties. Thus, TSA is not required to submit the rule for review under the CRA.

List of Subjects

49 CFR Part 1500

Air carriers, Air transportation, Aircraft, Airports, Buses, Hazardous materials transportation, Law enforcement officers, Maritime carriers, Mass transportation, Railroad safety, Railroads, Reporting and recordkeeping requirements, Security measures, Transportation, Vessels.

49 CFR Part 1552

Aircraft, Aliens, Aviation safety, Citizenship and naturalization, Educational facilities, Fees, Reporting and recordkeeping requirements, Security measures.

49 CFR Part 1570

Buildings and facilities, Buses, Common carriers, Crime, Fraud, Hazardous materials transportation, Highway safety, Mass transportation, Motor Carriers, Railroad safety, Railroads, Reporting and recordkeeping requirements, Security measures, Transportation.

The Amendments

For the reasons stated in the preamble, the Transportation Security Administration amends parts 1500, 1552, and 1570 of title 49, Code of Federal Regulations, as follows:

PART 1500—APPLICABILITY, TERMS, AND ABBREVIATIONS

1. The authority citation for part 1500 continues to read as follows:

Authority: 49 U.S.C. 114, 5103, 40113, 44901-44907, 44913-44914, 44916-44918, 44935-44936, 44939, 44942, 46105; Pub. L. 110-53 (121 Stat. 266, Aug. 3, 2007) secs. 1408 (6 U.S.C. 1137), 1501 (6 U.S.C. 1151), 1517 (6 U.S.C. 1167), and 1534 (6 U.S.C. 1184).

2. Amend § 1500.3 by removing the definition for “Non-U.S. citizen” and adding in alphabetical order the definition for “Alien” to read as follows:

§ 1500.3 Terms and abbreviations used in this chapter.

* * * * *

Alien means “alien” as defined in 8 U.S.C. 1101(a)(3).

* * * * *

PART 1552—FLIGHT TRAINING SECURITY PROGRAM

3. The authority citation for part 1552 continues to read as follows:

Authority: 49 U.S.C. 114, 44939, and 6 U.S.C. 469.

§ 1552.1 [Amended]

4. In § 1552.1, amend paragraph (c) by removing the words “Non-U.S. citizens” and adding, in their place, “Aliens”.

§ 1552.3 [Amended]

5. Amend § 1552.3 by removing the words “non-U.S. citizen” wherever they appear and adding, in their place, “alien”.

PART 1570—GENERAL RULES

6. The authority citation for part 1570 continues to read as follows:

Authority: 18 U.S.C. 842, 845; 46 U.S.C. 70105; 49 U.S.C. 114, 5103a, 40113, and 46105; Pub. L. 108-90 (117 Stat. 1156, Oct. 1, 2003), sec. 520 (6 U.S.C. 469), as amended by Pub. L. 110-329 (122 Stat. 3689, Sept. 30, 2008) sec. 543 (6 U.S.C. 469); Pub. L. 110-53 (121 Stat. 266, Aug. 3, 2007) secs. 1402 (6 U.S.C. 1131), 1405 (6 U.S.C. 1134), 1408 (6 U.S.C. 1137), 1413 (6 U.S.C. 1142), 1414 (6 U.S.C. 1143), 1501 (6 U.S.C. 1151), 1512 (6 U.S.C. 1162), 1517 (6 U.S.C. 1167), 1522 (6 U.S.C. 1170), 1531 (6 U.S.C. 1181), and 1534 (6 U.S.C. 1184).

§ 1570.3 [Amended]

7. Amend § 1570.3 by removing the definition for “Alien registration number”.

Kristi Noem,
Secretary of Homeland Security.

[FR Doc. 2026-03028 Filed 2-13-26; 8:45 am]

BILLING CODE 9110-05-P